DEPARTMENT OF THE INTERIOR

Bureau of Land Management

[LLORP00000.L10200000.PI0000; HAG10-0304]

Notice of Public Meeting, John Day/Snake Resource Advisory Council

AGENCY: Bureau of Land Management, Interior.

ACTION: Meeting notice for the John Day/Snake Resource Advisory Council.

SUMMARY: Pursuant to the Federal Land Policy and Management Act and the Federal Advisory Committee Act, the U.S. Department of the Interior, Bureau of Land Management (BLM) John Day-Snake Resource Advisory Council (JDSRAC) will meet as indicated below:

DATES: The JDSRAC meeting will begin at 8 a.m. Pacific Daylight Time on July 20, 2010.

ADDRESSES: The JDSRAC will meet at the Malheur National Forest Headquarters located on 431 Patterson Road, John Day, OR 97845-0909. For a copy of material to be discussed or the conference call number, please contact the BLM, Prineville District; information below.

SUPPLEMENTARY INFORMATION: The JDSRAC will conduct a public meeting to discuss several topics, including the John Day Basin Resource Management Plan Alternatives for Grazing Decisions, Council response to the Blue Mountain Forest Plan Revision, the response to the Wild Horse & Burro Strategy presently open to public comment, and the North End Umatilla Sheep Plan. There will also be a presentation about collaborative management practices with The Nature Conservancy. Public comment is scheduled from 1 p.m. to 1:15 p.m. (Pacific Daylight Time) July 20, 2010. For a copy of the information distributed to the JDSRAC members, please contact BLM Prineville District Office by telephone at (541) 416-6700 or at the address listed below.

FOR FURTHER INFORMATION CONTACT: Christina Lilienthal, Public Affairs Specialist, 3050 NE Third, Prineville, OR 97754, (541) 416-6889 or e-mail: christina_lilienthal@blm.gov.

Deborah Henderson-Norton,
District Manager, Prineville District Office.

[FR Doc. 2010-15692 Filed 6-28-10; 8:45 am]

BILLING CODE 4310-33-P